DEPARTMENT OF THE INTERIOR

Bureau of Land Management

[LLUT980300-L12100000-PH0000-24-1A]

Notice of Utah's Resource Advisory Council Meeting

AGENCY: Bureau of Land Management, Interior.

ACTION: Notice.

SUMMARY: In accordance with the Federal Land Policy and Management Act (FLPMA) and the Federal Advisory Committee Act of 1972 (FACA), the Department of the Interior, Bureau of Land Management's (BLM) Utah Resource Advisory Council (RAC) will meet as indicated below.

DATES: The Utah RAC will meet Tuesday, May 10, 2011, (8 a.m.-5 p.m.), in Salt Lake City, Utah.

ADDRESSES: The Council will meet at the Peery Hotel (Broadway 110 meeting room), 110 West Broadway (300 South), Salt Lake City, Utah.

FOR FURTHER INFORMATION CONTACT: Sherry Foot, Special Programs Coordinator, Utah State Office, Bureau of Land Management, P.O. Box 45155, Salt Lake City, Utah 84145-0155; phone (801) 539-4195.

SUPPLEMENTARY INFORMATION: The 15-member Council advises the Secretary of the Interior, through the BLM, on a variety of planning and management issues associated with public land management in Utah.

Planned agenda topics include a welcome and introduction of new Council members, election of officers, overview and procedures of resource advisory councils, issues and concerns in BLM Utah, RAC subgroup report (Rich County Allotment), overview of the Utah Partners for Conservation and Development group, an overview of the Federal Lands Recreation Enhancement Act, facts about the Wild Lands Initiative, and future project work for the RAC. A half-hour public comment period, where the public may address the Council, is scheduled to begin at 2 p.m. Written comments may be sent to the BLM address listed above. All meetings are open to the public; however, transportation, lodging, and meals are the responsibility of the participating public.

Dated: March 25, 2011.
Jeff Rawson,
Assoc. State Director.

[FR Doc. 2011-7726 Filed 3-31-11; 8:45 am]

BILLING CODE 4310-DQ-P